DEPARTMENT OF HEALTH AND HUMAN SERVICES

National Institute for Occupational Safety and Health; Notice of Public Input Opportunity

AGENCY: National Institute for Occupational Safety and Health (NIOSH), Department of Health and Human Services (HHS).

SUMMARY: The National Institute for Occupational Safety and Health (NIOSH) announces the following availability of opportunity for the public to provide input regarding the draft document, “Long-Term Field Evaluation (LTFE) Program Concept.”

NIOSH is the Federal agency responsible for conducting research and making recommendations for the approval for self-contained, self-rescuer (SCSR) closed circuit escape respirators, Title 42, Code of Federal Regulations (CFR), Part 84.

The LTFE program for self-contained self-rescuers (SCSRs) for miners was initiated more than 20 years ago by the U.S. Bureau of Mines. The objective for the LTFE program is to obtain data to determine the expected performance characteristics of SCSRs used in the mining industry. LTFE program results based on scientific principles can provide useful information to monitor expected SCSR performance and assess possible degradation due to the physical stresses of in-mine use. Of utmost concern is the successful performance of any SCSR that passes its inspection criteria specified by the manufacturer. It is such apparatus that must be relied upon in an emergency.

A copy of the draft document can be found at http://www.cdc.gov/niosh/review/public/NPPTL-LTFE/.

ADDRESSES: Comments should be submitted to the NIOSH Docket Office, Robert A. Taft Laboratories, 4676 Columbia Parkway. M/S C-34, Cincinnati, OH 45226, telephone 513/533-8450, fax 513/533-8285.

Comments may also be submitted directly through the Web site http://www.cdc.gov/niosh/review/public/NPPTL-LTFE/.

This document will remain available for comment until April 5, 2007. Comments should reference docket number NIOSH-101 in the subject heading.

All information received in response to this notice will be available for public examination and copying at the NIOSH Docket Office, Room 111, 4676 Columbia Parkway, Cincinnati, Ohio 45226.

Contact Person For Technical Information: Les Boord, NIOSH Director for National Personal Protective Technology Laboratory, 626 Cochrans Mill Road, P.O. Box 18070, Pittsburgh, PA 15236.

There will also be a public meeting held on March 22, 2007 at the DoubleTree Pittsburgh Airport Hotel, 8402 University Blvd, Moon Township, PA 15108 regarding this topic.

Dated: March 14, 2007.
John Howard,
Director, National Institute for Occupational Safety and Health.

[FR Doc. 07-1341 Filed 3-19-07; 8:45 am]

BILLING CODE 4163-19-M